DEPARTMENT OF COMMERCE

National Oceanic and Atmospheric Administration

[I.D. 110403B]

North Pacific Fishery Management Council; Public Meetings

AGENCY: National Marine Fisheries Service (NMFS), National Oceanic and Atmospheric Administration (NOAA), Commerce.

ACTION: Notice of public meetings.

SUMMARY: The North Pacific Fishery Management Council's (Council) Gulf of Alaska (GOA) and Bering Sea/Aleutian Islands (BSAI) groundfish plan teams will meet in Seattle.

DATES: The meetings will be held on November 17-21, 2003. The meetings will begin at 1 pm on Monday, November 17, and continue through Friday November 21.

ADDRESSES: The meetings will be held at the Alaska Fisheries Science Center, 7600 Sand Point Way N.E., Bldg. 4, Room 2039 (BSAI Plan Team) and Room 2076 (GOA Plan Team), Seattle, WA.

Council address: North Pacific Fishery Management Council, 605 W. 4th Ave., Suite 306, Anchorage, AK 99501-2252.

FOR FURTHER INFORMATION CONTACT: Jane DiCosimo, Diana Stram, North Pacific Fishery Management Council; telephone: 907-271-2809.

SUPPLEMENTARY INFORMATION: Agenda: Council Action updates: Non-target Species management, general issues, review Plan Team terms of reference, Economic Stock Assessment Fishery Evaluation (SAFE) report, Ecosystem chapter, GOA and BSAI Groundfish Stock Assessments and Proposed Specifications for 2004.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, 907-271-2809, at least 5 working days prior to the meeting date.

Dated: November 4, 2003.
Peter H. Fricke,
Acting Director, Office of Sustainable Fisheries, National Marine Fisheries Service.

[FR Doc. 03-28132 Filed 11-7-03; 8:45 am]

BILLING CODE 3510-22-S